DEPARTMENT OF TRANSPORTATION

Federal Aviation Administration

14 CFR Part 39

[Docket No. FAA-2023-2140; Project Identifier AD-2023-01071-T; Amendment 39-22590; AD 2023-22-06]

RIN 2120-AA64

Airworthiness Directives; Lockheed Martin Corporation/Lockheed Martin Aeronautics Company Airplanes

AGENCY: Federal Aviation Administration (FAA), DOT.

ACTION: Final rule; request for comments.

SUMMARY: The FAA is superseding Airworthiness Directive (AD) 96-12-20, which applied to certain Lockheed Martin Corporation/Lockheed Martin Aeronautics Company Model 382, 382B, 382E, 382F, and 382G airplanes. AD 96-12-20 required visual inspections to detect loose, missing, or deformed fasteners in the upper truss mounts of certain engines, visual inspections to detect cracking in the associated lugs, repetitive ultrasonic inspections to detect cracking of the upper lugs, and replacement of damaged or cracked parts. AD 96-12-20 also provided for an optional terminating action for the repetitive inspections. This AD was prompted by reports of fatigue cracking of the lugs of the upper truss mount, and by reports of cracks found prior to the initial inspection times required by AD 96-12-20 and the determination that the terminating action is no longer valid. This AD requires one-time inspections for cracked or severed engine truss mount upper lugs of the outboard engines, and replacement of the engine truss mount if necessary. This AD also revises the applicability to include all Model 382, 382B, 382E, 382F, and 382G airplanes, and all Model EC-130Q, C-130H, HP-C-130A, C-130A, and C-130B (including Model 282-44A-05) airplanes. The FAA is issuing this AD to address the unsafe condition on these products.

DATES: This AD is effective November 21, 2023.

The FAA must receive comments on this AD by January 5, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov by searching for and locating Docket No. FAA-2023-2140; or in person at Docket Operations between 9 a.m. and 5 p.m., Monday through Friday, except Federal holidays. The AD docket contains this final rule, any comments received, and other information. The street address for Docket Operations is listed above.

FOR FURTHER INFORMATION CONTACT: Fred Caplan, Aviation Safety Engineer, FAA, 1701 Columbia Avenue, College Park, GA 30337; phone: 404-474-5507; email: 9-ASO-ATLACO-ADs@faa.gov.

SUPPLEMENTARY INFORMATION:

Comments Invited

The FAA invites you to send any written data, views, or arguments about this final rule. Send your comments to an address listed under ADDRESSES. Include “Docket No. FAA-2023-2140 and Project Identifier AD-2023-01071-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Fred Caplan, Aviation Safety Engineer, FAA, 1701 Columbia Avenue, College Park, GA 30337; phone: 404-474-5507; email: 9-ASO-ATLACO-ADs@faa.gov. Any commentary that the FAA receives that is not specifically designated as CBI will be placed in the public docket for this rulemaking.

Background

The FAA issued AD 96-12-20, Amendment 39-9663 (61 FR 29279, June 10, 1996; corrected August 16, 1996 (61 FR 42549)) (AD 96-12-20), for certain Lockheed Martin Corporation/Lockheed Martin Aeronautics Company Model 382, 382B, 382E, 382F, and 382G airplanes. AD 96-12-20 required visual inspections to detect loose, missing, or deformed fasteners in the upper truss mounts of certain engines; inspections to detect cracking in the associated lugs; repetitive ultrasonic inspections to detect cracking of the upper lugs; and replacement of damaged and cracked parts. This amendment also provides for an optional terminating action for the repetitive inspections. AD 96-12-20 was prompted by reports of fatigue cracking of the lugs of the upper truss mount. The FAA issued AD 96-12-20 to prevent multiple failures of the upper truss mounts due to problems associated with fatigue cracking, which could adversely affect the integrity of the engine mount structure.

Actions Since AD 96-12-20 Was Issued

Since the FAA issued AD 96-12-20, the FAA has been notified of additional crack findings in engine truss mount upper lugs occurring prior to the initial inspection times required by AD 96-12-20. The cracks were found to have progressed entirely through these parts and have been found on multiple airplanes. In addition, modified parts, required by the terminating action in AD 96-12-20, that were intended to have a longer operational life have not resulted in longer periods before cracks occur; therefore, the previous terminating action is not valid, and airplanes on which the terminating action was done must be inspected. The restricted category models EC-130Q, C-130H, HP-C-130A, C-130A, and C-130B (including Model 282-44A-05) were added to the Model 382 airplanes affected by AD 96-12-20, since they share the same type design in the area where cracking is occurring. Fatigue cracking of a single engine truss mount upper lug could reduce the static strength of an engine mount to limit load, while cracking of both lugs can lead to separation of the engine, catastrophic structural damage, and loss of control of the airplane.

FAA's Determination

The FAA is issuing this AD because the agency has determined the unsafe condition described previously is likely to exist or develop in other products of the same type design.

AD Requirements

This AD does not retain the requirements of AD 96-12-20. This AD revises the applicability of AD 96-12-20 by expanding to all Model 382, 382B, 382E, 382F, and 382G airplanes, and adding Model EC-130Q, C-130H, HP-C-130A, C-130A, and C-130B (including Model 282-44A-05) airplanes. This AD requires one-time inspections to detect cracking of the No. 1 and No. 4 engine truss mount upper lugs, lower surfaces, at outer wing station (OWS) 162 and OWS 197; cracking of the No. 1 and No. 4 engine truss mount upper lug side surfaces, inboard and outboard, at OWS 162 and OWS 197; and severed engine truss mount upper lugs; and replacement of the engine truss mount if found with cracked or severed engine truss mount upper lugs.

Interim Action

The FAA considers this AD to be an interim action. If final action is later identified, the FAA might consider further rulemaking then.

Impact on Intrastate Aviation in Alaska

In light of the heavy reliance on aviation for intrastate transportation in Alaska, the FAA fully considered the effects of this AD (including costs to be borne by affected operators) from the earliest possible stages of AD development. This AD is based on those considerations, and was developed with regard to minimizing the economic impact on operators to the extent possible, consistent with the safety objectives of this AD. In any event, the Federal Aviation Regulations require operators to correct an unsafe condition identified on an airplane to ensure operation of that airplane in an airworthy condition. The FAA has determined in this case that the requirements are necessary and the indirect costs would be outweighed by the safety benefits of the AD.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because fatigue cracking of a single engine truss mount upper lug reduces the static strength of an engine mount to limit load, while cracking of both lugs can lead to separation of the engine, catastrophic structural damage, and loss of control of the airplane. Further, based upon the additional applicability of affected airplanes and the previously insufficient service information, it is likely that further fatigue cracking and reduction in static strength has occurred and could result in imminent separation of the engine, catastrophic structural damage, and loss of control of the airplane. Finally, the compliance time for the required action is shorter than the time necessary for the public to comment and for publication of the final rule. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 41 airplanes of U.S. registry. The FAA estimates the following costs to comply with this AD:

Estimated Costs
Action | Labor cost | Parts cost | Cost per product | Cost on U.S. operators
Inspections | 10 work-hours × $85 per hour = $850 | $0 | $850 | $34,850

The FAA has received no definitive data on which to base the cost estimates for the on-condition actions specified in this AD.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD is not a “significant regulatory action” under Executive Order 12866.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) AD 96-12-20, Amendment 39-9663 (61 FR 29279, June 10, 1996; corrected August 16, 1996 (61 FR 42549)); and

b. Adding the following new AD:

2023-22-06 Lockheed Martin Corporation/Lockheed Martin Aeronautics Company: Amendment 39-22590; Docket No. FAA-2023-2140; Project Identifier AD-2023-01071-T.

(a) Effective Date

This airworthiness directive (AD) is effective November 21, 2023.

(b) Affected ADs

This AD replaces AD 96-12-20, Amendment 39-9663 (61 FR 29279, June 10, 1996; corrected August 16, 1996 (61 FR 42549)) (AD 96-12-20).

(c) Applicability

This AD applies to the airplanes identified in paragraphs (c)(1) and (2) of this AD.

(1) All Lockheed Martin Corporation/Lockheed Martin Aeronautics Company Model 382, 382B, 382E, 382F, and 382G airplanes, certificated in any category.

(2) All airplanes specified in paragraphs (c)(2)(i) through (xi) of this AD, type certificated in the restricted category.

(i) LeSEA Model C-130A airplanes (transferred from Central Air Services, Inc.), Type Certificate Data Sheet (TCDS) A34SO, Revision 1.

(ii) T.B.M., Inc., Model C-130A airplanes, TCDS A39CE, Revision 3.

(iii) Western International Aviation, Inc., Model C-130A airplanes, TCDS A33NM.

(iv) USDA Forest Service Model C-130A airplanes, TCDS A15NM, Revision 4.

(v) Snow Aviation International, Inc., Model C-130A airplanes, TCDS TQ3CH, Revision 1.

(vi) International Air Response (transferred from Rogers Helicopters, Inc., and Heavylift Helicopters Inc.) Model C-130A airplanes, TCDS A31NM, Revision 3.

(vii) Heavylift Helicopters, Inc., Model C-130B airplanes, TCDS A35NM, Revision 1.

(viii) Hawkins & Powers Aviation, Inc., Model HP-C-130A airplanes, TCDS A30NM, Revision 1.

(ix) Coulson Aviation (USA), Inc., Model EC-130Q and C-130H airplanes, TCDS T00019LA, Revision 4.

(x) Lockheed-Georgia Company Model 282-44A-05 (C-130B) airplanes, TCDS A5SO.

(xi) Surplus Model C-130A airplanes.

(d) Subject

Air Transport Association (ATA) of America Code 71, Powerplant.

(e) Unsafe Condition

This AD was prompted by reports of fatigue cracking of an upper lug of the engine truss mount, and by reports of cracks found prior to the initial inspection times required by AD 96-12-20. The FAA is issuing this AD to address such fatigue cracking. Fatigue cracking of a single engine truss mount upper lug could reduce the static strength of an engine mount to limit load, while cracking of both lugs can lead to separation of the engine, catastrophic structural damage, and loss of control of the airplane.

(f) Compliance

Comply with this AD within the compliance times specified, unless already done.

(g) Required Actions

Within 35 days after the effective date of this AD, do the inspections specified in paragraphs (g)(1) and (2) of this AD, using a method approved in accordance with the procedures specified in paragraph (i) of this AD. If any cracked or severed engine truss mount upper lug is found, the engine truss mount must be replaced before further flight, using a method approved in accordance with the procedures specified in paragraph (i) of this AD.

(1) Do a one-time detailed visual inspection for cracking of the No. 1 and No. 4 engine truss mount upper lugs, lower surfaces, at outer wing station (OWS) 162 and OWS 197; and for severed engine truss mount upper lugs; at a total of four locations: two locations per engine mount, one mount assembly at each OWS.

(2) Do a one-time borescope inspection for cracking of the No. 1 and No. 4 engine truss mount upper lug side surfaces, inboard and outboard, at OWS 162 and OWS 197; and for severed engine truss mount upper lugs; at a total of eight locations: two locations per engine truss mount lug, two lugs per engine, one mount assembly at each OWS.

Note 1 to paragraph (g): Guidance for accomplishing the inspections and replacement can be found in Lockheed Martin Aeronautics Company Alert Service Bulletin A382-57-103, dated October 19, 2023.

(h) Special Flight Permit

Special flight permits may be issued in accordance with 14 CFR 21.197 and 21.199 to operate the airplane to a location where the inspections required by this AD can be performed, but special flight permits may not be issued to operate the airplane after a visual or borescope inspection has identified a cracked or severed lug, unless the operator contacts the Manager, East Certification Branch, FAA, for specific limitations that must be followed and complies with those limitations.

(i) Alternative Methods of Compliance (AMOCs)

(1) The Manager, East Certification Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (j) of this AD.

(2) Before using any approved AMOC, notify your appropriate principal inspector, or lacking a principal inspector, the manager of the responsible Flight Standards Office.

(j) Related Information

(1) For more information about this AD, contact Fred Caplan, Aviation Safety Engineer, FAA, 1701 Columbia Avenue, College Park, GA 30337; phone: 404-474-5507; email: 9-ASO-ATLACO-ADs@faa.gov.

(2) For Lockheed Martin Aeronautics Company service information identified in this AD that is not incorporated by reference, contact Lockheed Martin Corporation/Lockheed Martin Aeronautics Company, Airworthiness Office, Dept. 6A0M, Zone 0252, Column P-58, 86 S Cobb Drive, Marietta, GA 30063; telephone 770-494-5444; fax 770-494-5445; email ams.portal@lmco.com. You may view this service information at the FAA, Airworthiness Products Section, Operational Safety Branch, 2200 South 216th St., Des Moines, WA. For information on the availability of this material at the FAA, call 206-231-3195.

(k) Material Incorporated by Reference

None.

Issued on November 16, 2023.
Ross Landes,
Deputy Director for Regulatory Operations, Compliance & Airworthiness Division, Aircraft Certification Service.

[FR Doc. 2023-25762 Filed 11-17-23; 4:15 pm]

BILLING CODE 4910-13-P